INTERNATIONAL TRADE COMMISSION

[Investigation No. 337-TA-1290]

Certain Refrigerator Water Filtration Devices and Components Thereof; Notice of Institution of Investigation

AGENCY: U.S. International Trade Commission.

ACTION: Notice.

SUMMARY: Notice is hereby given that a complaint was filed with the U.S. International Trade Commission on December 15, 2021, under section 337 of the Tariff Act of 1930, as amended, on behalf of LG Electronics Inc. of Korea, and LG Electronics Alabama, Inc. of Huntsville, Alabama. A supplement was filed on December 23, 2021. The complaint alleges violations of section 337 based upon the importation into the United States, the sale for importation, and the sale within the United States after importation of certain refrigerator water filtration devices and components thereof by reason of infringement of certain claims of U.S. Patent No. 10,653,984 (“the '984 patent”); U.S. Patent No. 10,639,570 (“the '570 patent”); and U.S. Patent No. 10,188,972 (“the '972 patent”). The complaint further alleges that an industry in the United States exists as required by the applicable Federal Statute. The complainant requests that the Commission institute an investigation and, after the investigation, issue a limited exclusion order and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION: Authority: The authority for institution of this investigation is contained in section 337 of the Tariff Act of 1930, as amended, 19 U.S.C. 1337, and in section 210.10 of the Commission's Rules of Practice and Procedure, 19 CFR 210.10 (2021).

Scope of Investigation: Having considered the complaint, the U.S. International Trade Commission, on January 14, 2022, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1-7 of the '984 patent; claims 1-9 of the 570 patent; and claims 1, 6, 10-13, 15, and 17-19 of the '972 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “water filters for refrigerators, water filter assemblies and interconnection subassemblies for refrigerators, and water purifying apparatuses and filter structures for refrigerators”;

(3) For the purpose of the investigation so instituted, the following are hereby named as parties upon which this notice of investigation shall be served:

(a) The complainant is:

LG Electronics Inc., LG Twin Towers, 128 Yeoui-daero, Yeongdeungpo-gu, Seoul, Republic of Korea, 07736

LG Electronics Alabama, Inc., 201 James Record Road, Huntsville, AL 35824

(b) The respondents are the following entities alleged to be in violation of section 337, and are the parties upon which the complaint is to be served:

Clearwater Filters, 770 Canary Drive, Lakewood, NJ 08701

Express Parts LLC d/b/a Express Parts!!!, 78 Broad Street, Keyport, NJ 07735

Freshlab LLC, 9473 NW 24th Rd., Gainesville, FL 32606

Zhang Ping d/b/a Ice Water Filter, Qianxiangzhenqianyicun, Dongyang, Zhejiang, 322100, China

Jiangsu Angkua Environmental Technical Co., Ltd., 555 Yishou NorthRoad, Rugao, Nantong, Jiangsu, 226500, China

Liu Qi d/b/a LQQY, No. 2-19, Baijiazhuang Village, Zaolin Township, Lishi District, Luliang City, Shanxi Province, 033099, China

Lvliangshilishiquhuiliwujinbaihuoshan Ghang d/b/a LYLYMX, Zaolin Township, Lishi District, Luliang, Shanxi Province, 033000, China

Ninbo Haishu Bichun Technology Co., Ltd. D/B/A Ninbo Hai Shu Bi, Chun Ke Ji You Xian Gong Si D/B/A Pureza Filters, 747 N Church Rd., Unit G1, Elmhurst, IL 60126

Ninbo Haishu Keze Replacement Equipment Co., Ltd., d/b/a Ningboshihaishukezejinghuashebeiyou Xiangongsi D/B/A Kozero Filter, Haishuquwangchungongyeyuanqu, Kexinlu269hao, Ningboshi, Zhejiang, 315100, China

Ningbo Bichun Technology Co., Ltd., No. 269, Kexin Avenue, Wangchun Industrial Park, Haishu District, Ningbo City, Zhejiang Province, 315000, China

Ningbo Haishu Shun'anjie Water Purification Equipment LLC, No. 181-197, Shanshan Road, Wangchun Industrial Park, Haishu District, Ningbo, Zhejiang, 315000, China

Pursafet Water Filter (Wuhan) Inc., (10) 1st-4th Floor, Plant 1, No. 1, Mintian Village, Jinghe Office, Dongxihu District, Wuhan, Hubei, 430040, China

Shenzen Hangling E-Commerce Co. Ltd, D/B/A Shenzhenshilinghangdianzhishangwuy Ouxiangongshi d/b/a Best Belvita, 747 N Church Rd., Unit G1, Elmhurst, IL 60126

Shenzhen Yu Tian Qi Technology Co., Ltd., D/B/A Shen Zhen Shi Yu, Tian Qi Ke Ji You Xian Gong Si d/b/a GLACIERFRESH, Longgangquhanggangjiedao, Huaxi12xiang9hao302shi, Shenzhen, Guangdong, 518356, China

Aicuiying d/b/a Belvita Water, 803, Building 2, No. 592, Bulong Road, Bantian Street, Shenzhen, Guangdong Province, 518000, China

Isave Strategic Marketing Group LLC d/b/a Isave, 1460 Broadway, New York, NY 10036

Qinghaishunzexiaofangjianceyouxiang Ongsi, d/b/a Ezeey, Room 20711, 7th Floor, Unit 2, Building 1, No. 71, Wusi Street, Chengxi District, Xining City, Qinghai Province, 810001, China

Zhenpingxianjiaxuanyazhubaofuzhu Anggongyipinyouxia, d/b/a Jiaxuanyazhubaofuzhuang, Dong liguojierqi15-2-301, Jianganqu erqilu89hao, Wuhanshi, Hubeisheng, 430000, China

All Filters LLC d/b/a Allfilters, 1991 W Parkway Blvd., Salt Lake City, UT 84119

GT Sourcing Inc. d/b/a GT Sourcing, 15 Melnick Dr., Unit 22, Monsey, NY 10952

JJ Imports LLC d/b/a Prime Filters, 319 E 54 St., Elmwood Park, NJ 07407

Tianjin Tianchuang Best Pure Environmental Science And Technology Co. Ltd., d/b/a Tianjin Tianchuang Bestpure Huanbao Keji Co. Ltd., d/b/a Healthy Home~, Tianjin Tianjin Room 1247, Building 1, NO. 118, Ri, Tianjin, Tianjin, 300301, China

Top Pure (Usa) Inc., d/b/a Toppure, d/b/a Icepure, 717 San Gabriel River Pkwy, #A, Pico Rivera, CA 90660

W&L Trading LLC, d/b/a Aqualink, 1827 Peppervine Rd, Frisco, TX 75033-0707

Yunda H&H Tech (Tianjin) Co., LTD., d/b/a Tianjin Yuanda Gongmao, Youxian Gongsi d/b/a Pureplus, 729hao Jinghai Jingji Kaifa Qu, Tianjinshi, Tianjinshi, 301600, China

Refresh Filters LLC, d/b/a Refresh My Water, 1460 Broadway, New York, NY 10036

Qingdao Ecopure Filter Co., Ltd, d/b/a Waterdropdirect, No. 13 Yishengbai Rd., Environmental Protection Industry Zone, Qingdao, Shandong, 266200, China

Qingdao Maxwell Commercial and Trading Company Ltd, d/b/a Water Purity Expert, No. 401 Mincheng Rd, Room 1102, Unit 2, Building 16, Qingdao Chengyang, Shandong, 266000, China

Qingdao Uniwell Trading Co., Ltd., d/b/a Qingdao Youniwei Shang Mao, You Xian Gong Si, d/b/a Uniwell Filter, Xianggangdonglu195hao, Shangshizhongxin7haolou403, Qingdao, Shandong, 266100, China

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainants of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: January 14, 2022.
Lisa Barton,
Secretary to the Commission.

[FR Doc. 2022-01113 Filed 1-20-22; 8:45 am]

BILLING CODE 7020-02-P